DEPARTMENT OF TRANSPORTATION

Federal Railroad Administration

Petition for Waiver of Compliance

In accordance with part 211 of title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

New Jersey Transit Corporation (Supplement to Waiver Petition Docket Number FRA-1999-6135)

As a supplement to New Jersey Transit Corporation's (NJ Transit) Petition for Approval of Shared Use and Waiver of Certain FRA Regulations (the original shared use waiver was granted by the FRA Railroad Safety Board on December 3, 1999 and a five year extension was granted by the FRA Railroad Safety Board on May 2, 2005), NJ Transit seeks a permanent waiver of compliance from additional sections of Title 49 of the CFR for continued safe operation of its Southern New Jersey Light Rail Transit (SNJLRT) River Line. NJ Transit submits that this request is consistent with the waiver process for Shared Use. See Statement of Agency Policy Concerning Jurisdiction Over the Safety of Railroad Passenger Operations and Waivers Related to Shared Use of the Tracks of the General Railroad System by Light Rail and Conventional Equipment, 65 FR 42529 (July 10, 2000); see also Joint Statement of Agency Policy Concerning Shared Use of the Tracks of the General Railroad System by Conventional Railroads and Light Rail Transit Systems, 65 FR 42626 (July 10, 2000).

The River Line is a temporally separated light rail system, sharing track with Conrail, operating through 19 communities, often as close as 100 feet from residences, schools, hospitals, and businesses. NJ Transit estimates that at moderate levels of service, the River Line generates over 5400 audible warnings per day over its 54 highway-rail grade crossings and street intersections on the shared trackage of the Bordentown Secondary from milepost 3.4 to milepost 33.1. NJ Transit proposes that the quality of life of the residents of these communities is significantly impacted by frequent intrusion of horns and bells, resulting in numerous complaints from residents and elected officials. In order to mitigate these concerns, NJ Transit adopted the use of the 86dB(A) setting of the two-level horn on the SNJLRT vehicle as the standard highway-rail grade crossing audible warning device and developed specific light rail operating rules regarding audible warnings at grade crossings on the River Line.

On April 27, 2005, the FRA issued the Final Rule on Use of Locomotive Horns at Highway-Rail Grade Crossings, 69 FR 21844 (2005), with an effective date on June 24, 2005. Although NJ Transit states that its audible warning operating practices on the River Line are generally in compliance with the rules contained in 49 CFR parts 222 and 229 Use of Locomotive Horns at Highway Rail Grade Crossings; Final Rule, it seeks waivers from parts of this rule because of variances in the following areas: The River Line light rail vehicle audible warning decibel level, the use of the River Line vehicle bell in Burlington City, NJ, operating practices for near-side station stops in close proximity to fully activated and deployed grade crossing warning devices, one highway-rail grade crossing in Bordentown, NJ and the horn blowing pattern for specific highway-rail crossings in close proximity to one another.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

Because the final rule on Use of Locomotive Horns is now in effect, and because it was not FRA's intention in issuing that rule to require compliance by light rail vehicles operating in joint use situations with the horn decibel level required for conventional rail equipment, FRA may issue temporary relief in this proceeding addressing that issue, following the expiration of ten (10) days from the date of publication of this notice in the Federal Register absent persuasive filings indicating that a contrary course of action should be taken.

All communication concerning these proceedings should identify the appropriate docket number (e.g., Waiver Petition Docket Number FRA-1999-6135) and must be submitted to the Docket Clerk, DOT Docket Management Facility, Room PL-401 (Plaza Level), 400 7th Street, SW., Washington, DC. 20590. Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Issued in Washington, DC on July 13, 2005.
Grady C. Cothen, Jr.,
Deputy Associate Administrator for Safety Standards and Program Development.

[FR Doc. 05-14333 Filed 7-20-05; 8:45 am]

BILLING CODE 4910-06-P